NATIONAL CREDIT UNION ADMINISTRATION

Sunshine Act Notice; Cancellation of Meeting

TIME AND DATE: 5:30 p.m., Wednesday, February 2, 2011.

PLACE: Board Room, 7th Floor, Room 7047, 1775 Duke Street, Alexandria, VA 22314-3428.

STATUS: Closed.

FOR FURTHER INFORMATION CONTACT: Mary Rupp, Secretary of the Board, Telephone: 703-518-6304.

Mary Rupp,
Board Secretary.

[FR Doc. 2011-2697 Filed 2-3-11; 11:15 am]

BILLING CODE P